DEPARTMENT OF LABOR

Office of the Secretary

Agency Information Collection Activities; Submission for OMB Review; Comment Request; Report of Construction Contractor's Wage Rates

ACTION: Notice of availability; request for comments.

SUMMARY: The Department of Labor (DOL) is submitting this Wage and Hour Division (WHD)-sponsored information collection request (ICR) to the Office of Management and Budget (OMB) for review and approval in accordance with the Paperwork Reduction Act of 1995 (PRA). Public comments on the ICR are invited.

DATES: The OMB will consider all written comments that agency receives on or before June 29, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: The Davis-Bacon Act (40 U.S.C. 3141, et seq.) provides, in part, that every contract in excess of $2,000 to which the United States or the District of Columbia is a party for construction, alteration, and/or repair, which requires or involves the employment of mechanics and/or laborers, shall contain a provision stating the minimum wages to be paid various classes of laborers and mechanics that were determined by the Secretary of Labor to be prevailing for the corresponding classes of laborers and mechanics employed on projects of a character similar to the contract work in the city, town, village or other civil subdivision of the State where the work is to be performed. The Administrator of the Wage and Hour Division, through a delegation of authority, is responsible for issuing these wage determinations (WDs). Section 1.3 of Regulations 29 CFR part 1, Procedures for Predetermination of Wage Rates, provides, in part, that for the purpose of making WDs, the Administrator will conduct a continuing program for obtaining and compiling wage rate information. Form WD-10 (Davis-Bacon Wage Survey Report of Construction Contractor's Wage Rates) is used to determine locally prevailing wages under the Davis-Bacon and Related Acts. The wage data collection is a primary source of information and is essential to the determination of prevailing wages. For additional substantive information about this ICR, see the related notice published in the Federal Register on November 25, 2019 (84 FR 64934).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-WHD.

Title of Collection: Report of Construction Contractor's Wage Rates.

OMB Control Number: 1235-0015.

Affected Public: Private Sector: Businesses or other for-profits, not-for-profit institutions.

Total Estimated Number of Respondents: 2,731.

Total Estimated Number of Responses: 21,029.

Total Estimated Annual Time Burden: 7,009 hours.

Total Estimated Annual Other Costs Burden: $0.

Authority: 44 U.S.C. 3507(a)(1)(D).

Dated: May 21, 2020.
Anthony May,
Acting Departmental Clearance Officer.

[FR Doc. 2020-11458 Filed 5-27-20; 8:45 am]

BILLING CODE 4510-27-P